FEDERAL COMMUNICATIONS COMMISSION

47 CFR Part 73

[DA 04-3336; MB Docket No. 04-33; RM-10847]

Radio Broadcasting Services; Cordele, Dawson, and Pinehurst, GA

AGENCY: Federal Communications Commission.

ACTION: Final rule.

SUMMARY: In response to a Notice of Proposed Rule Making, 69 FR 12296 (March 16, 2004) this Report and Order upgrades Channel 251A, Station WMRZ(FM), Dawson, Georgia, to Channel 251C3; reallots Channel 252A, Station WQXZ(FM), Cordele, Georgia, to Pinehurst, Georgia, and modifies Station WQXZ(FM)'s license accordingly. The Report and Order also dismisses a pleading filed as a counterproposal, which proposed the allotment of Channel 252A to Coolidge, Georgia, as unacceptable for consideration. The coordinates for Channel 251C3 at Dawson, Georgia, are 31-37-25 NL and 84-19-49 WL, with a site restriction of 20 kilometers (12.4 miles) southeast of Dawson. The coordinates for Channel 252A at Pinehurst, Georgia are 32-10-03 NL and 83-37-51 WL, with a site restriction of 12.9 kilometers (8.0 miles) east of Pinehurst.

DATES: Effective December 10, 2004.

FOR FURTHER INFORMATION CONTACT: R. Barthen Gorman, Media Bureau, (202) 418-2180.

SUPPLEMENTARY INFORMATION: This is a synopsis of the Commission's Report and Order, MB Docket No. 04-33, adopted October 20, 2004, and released October 25, 2004. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the General Accounting Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334, and 336.

§ 73.202 [Amended]

2. Section 73.202(b), the Table of FM Allotments under Georgia, is amended by removing Cordele, Channel 252A, by removing Channel 251A and adding Channel 251C3 at Dawson, and by adding Pinehurst, Channel 252A.

Federal Communications Commission.
John A. Karousos,
Assistant Chief, Audio Division, Media Bureau.

[FR Doc. 04-24832 Filed 11-5-04; 8:45 am]

BILLING CODE 6712-01-P